DEPARTMENT OF AGRICULTURE

Commodity Credit Corporation

Natural Resources Conservation Service Conservation Security Program

AGENCY: Natural Resources Conservation Service and Commodity Credit Corporation, USDA.

ACTION: Notice.

DATES: The administrative actions announced in the notice are effective on February 7, 2006.

FOR FURTHER INFORMATION CONTACT: Craig Derickson, Branch Chief—Stewardship Programs, Financial Assistance Programs Division, NRCS, P.O. Box 2890, Washington, DC 20013-2890, telephone: (202) 720-1845; fax: (202) 720-4265. Submit e-mail to: craig.derickson@wdc.usda.gov, Attention: Conservation Security Program.

SUMMARY: This document announces the sign-up CSP-06-01 for the Conservation Security Program (CSP). This sign-up will be open from February 13, 2006, through March 31, 2006, in selected 8-digit watersheds in all 50 States, Guam, and the Caribbean.

SUPPLEMENTARY INFORMATION: In an amendment to the Interim Final Rule published March 25, 2005, USDA's Natural Resources Conservation Service (NRCS) established the implementing regulations for Conservation Security Program (CSP). The CSP is a voluntary program administered by NRCS using authorities and funds of the Commodity Credit Corporation, that provides financial and technical assistance to producers who advance the conservation and improvement of soil, water, air, energy, plant and animal life, and other conservation purposes on Tribal and private working lands.

This document announces the CSP-06-01 sign-up that will be open from February 13, 2006, through March 31, 2006, in selected 8-digit watersheds in all 50 States, Guam, and the Caribbean, which can be viewed at http://www.nrcs.usda.gov/programs/csp/2006_CSP_WS/index.html. These watersheds were selected using the process set forth in the Interim Final Rule. In addition to other data sources, this process used National Resources Inventory data to assess land use, agricultural input intensity, and historic conservation stewardship in watersheds nationwide. NRCS State Conservationists recommended a list of potential watersheds after gaining advice from the State Technical Committees. The Secretary of Agriculture announced on August 25, 2005, the preliminary list of FY 2006 watersheds based on the President's budget. Of those 110 watersheds, CSP will be offered in 60 watersheds nationwide based on available funding. The sign-up will only include those producers who are not participants in an existing CSP contract. Applicants can submit only one application for this sign-up.

To be eligible for CSP, a majority of the agricultural operation must be within the limits of one of the selected watersheds. Applications which meet the minimum requirements as set forth in the Interim Final Rule (listed below) will be placed in enrollment categories for funding consideration. Categories will be funded in alphabetical order until funds are exhausted. If funds are not available to fund an entire category, then the applications will fall into subcategories and funded in order until funds are exhausted. If a subcategory cannot be fully funded, applicants will be offered the FY 2006 CSP contract payment on a prorated basis.

Producers should begin the application process by filling out a self-assessment to determine if they meet the basic qualification for CSP. Self-assessment workbooks are available in hard copy at USDA Service Centers within the watersheds, and electronically for download or an interactive Web site linked from http://www.nrcs.usda.gov/programs/csp/2006_CSP_WS/index.html. The self-assessment workbook includes a benchmark inventory where the applicant documents the conservation practices and activities that are ongoing on their operation. This benchmark inventory serves as the basis for the conservation stewardship plan. Once the producer concludes that they meet the CSP requirements as outlined in the workbook, they should make an appointment for an interview to discuss their application with the NRCS local staff to determine if they meet specific CSP eligibility requirements.

In order to apply, applicants must submit:

(1) A completed self-assessment workbook, including the benchmark inventory.

(2) A minimum of two years of documentation to show any stewardship completed including fertilizer, nutrient, and pesticide application schedules, tillage, and grazing schedules if applicable.

(3) Completed CCC-1200 available through the self-assessment online guide, Web site, and any USDA Service Center.

Applicants are encouraged to attend preliminary workshops, which will be announced locally. There, the basic qualifications will be explained, and assistance provided on the self-assessment workbook and benchmark inventory.

CSP is offered at three tiers of participation. Some payments are adjusted based on the tier, and some payments are tier-neutral. See payment information below.

Minimum Tier Eligibility and Contract Requirements

The following are the minimum tier eligibility and contract requirements:

CSP Tier I—the benchmark condition inventory demonstrates to the satisfaction of NRCS that the applicant has addressed the nationally significant resource concerns of water quality and soil quality to the minimum level of treatment for any eligible landuse on part of the agricultural operation. Only the acreage meeting such requirements is eligible for stewardship and existing practice payments in CSP.

CSP Tier II—the benchmark condition inventory demonstrates to the satisfaction of NRCS that the applicant has addressed the nationally significant resource concerns of water quality and soil quality to the minimum level of treatment for all eligible land uses on the entire agricultural operation. Additionally, the applicant must agree to address another significant resource concern applicable to their watershed to be started no later than two years prior to contract expiration, and completed by the end of the contract period. If the applicable resource concern is already addressed or does not pertain to the operation, then this requirement is waived.

CSP Tier III—the benchmark condition inventory demonstrates to the satisfaction of NRCS that the applicant has addressed all of the existing resource concerns listed in Section III of the NRCS Field Office Technical Guide (FOTG) with a resource management system that meets the minimum level of treatment for all eligible land uses on the entire agricultural operation.

Delineation of the Agriculture Operation

Delineating an agricultural operation for CSP is an important part in determining the Tier of the contract, stewardship payments, and the required level of conservation treatment needed for participation. The applicant will delineate the agricultural operation to include all agricultural lands, and other lands such as farmstead, feedlots, and headquarters and incidental forestlands, under the control of the participant and constituting a cohesive management unit that is operated with equipment, labor, accounting system, and management that is substantially separate from any other. In delineating the agriculture operation, Farm Service Agency farm boundaries may be used. If farm boundaries are used in the application, the entire farm area must be included within the delineation. An applicant may offer one farm or aggregate farms into one agricultural operation.

Minimum Eligibility Requirements

To be eligible to participate in CSP, the applicants must meet the requirements for eligible applicants, the land offered for contract must meet the definition of eligible land, and the application must meet the conservation standards for that land as described below.

Eligible Applicants

To be eligible to participate, an applicant must:

(1) Be in compliance with the highly erodible land and wetland conservation provisions;

(2) Meet the Adjusted Gross Income requirements;

(3) Show control of the land for the life of the proposed contract period. If the applicant is a tenant, the applicant must provide NRCS with either written evidence or assurance of control from the landowner, but a lease is not required. In the case of land allotted by the Bureau of Indian Affairs (BIA) or Tribal land, there is considered to be sufficient assurance of control;

(4) Share in risk of producing any crop or livestock and be entitled to share in the crop or livestock available for marketing from the agriculture operation. Landlords and owners are ineligible to submit an application for exclusively cash rented agriculture operations;

(5) Complete a benchmark condition inventory for the entire agricultural operation or the portion being enrolled in accordance with § 1469.7(a) in the Interim Final Rule; and

(6) Supply information, as required by NRCS, to determine eligibility for the program; including but not limited to, information related to eligibility criteria in this sign-up announcement; and information to verify the applicant's status as a beginning or limited resource farmer or rancher if applicable.

Eligible Land

To be eligible for enrollment in CSP, land must be:

(1) Private agricultural land;

(2) Private non-industrial forested land that is an incidental part of the agriculture operation;

(3) Agricultural land that is Tribal, allotted, or Indian trust land;

(4) Other incidental parcels, as determined by NRCS, which may include, but are not limited to, land within the bounds of working agricultural land or small adjacent areas (including center pivot corners, linear practices, field borders, turn rows, intermingled small wet areas, or riparian areas); or

(5) Other land on which NRCS determines that conservation treatment will contribute to an improvement in an identified natural resource concern, including areas outside the boundary of the agricultural land or enrolled parcel such as farmsteads, ranch sites, barnyards, feedlots, equipment storage areas, material handling facilities, and other such developed areas. Other land must be treated in Tier III contracts.

Land Not Eligible for Enrollment in CSP

The following lands are ineligible for enrollment in CSP:

(1) Land enrolled in the Conservation Reserve Program, the Wetlands Reserve Program, or the Grassland Reserve Program; and

(2) Public land including land owned by a Federal, State, or local unit of government.

Land referred to above may not receive CSP payments, but the conservation work on this land may be used to determine if an applicant meets eligibility criteria for the agricultural operation and may be described in the Conservation Stewardship Plan.

Land Not Eligible for Any Payment Component in CSP

Land that is used for crop production after May 13, 2002, that had not been planted, considered to be planted, or devoted to crop production, as determined by NRCS, for at least 4 of the 6 years preceding May 13, 2002, is not eligible for any payment component in CSP.

Conservation Standards for Tier I and Tier II

The following conservation standards apply for Tier I and Tier II:

(1) The minimum level of treatment on cropland:

a. Soil Quality—the minimum level of treatment is considered achieved when the Soil Conditioning Index is positive; and

b. Water Quality—the minimum level of treatment is considered achieved when the CSP Water Quality Eligibility Tool minimum thresholds are met for the specific resource concerns of nutrients, pesticides, sediment and salinity for surface water and nutrients, pesticides and salinity for ground water, if applicable.

(2) The minimum level of treatment on pastureland and rangelands:

a. Soil Quality—the minimum level of treatment is considered achieved by following a grazing management plan that provides for vegetation and animal management achieved through a forage-animal balance, proper livestock distribution, and timing of use; and.

b. Water Quality—the minimum level of treatment is considered achieved when the access of livestock to water courses is properly managed according to the grazing plan and the CSP Water Quality Eligibility Tool minimum thresholds are met for the specific resource concerns of nutrients, pesticides, sediment and salinity for surface water and nutrients, pesticides and salinity for ground water, if applicable.

Conservation Standards for Tier III

The minimum level of treatment for Tier III on any eligible landuse is met by achieving the required conservation standards specified for Tier I and Tier II requirements, plus meeting the quality criteria for the local NRCS FOTG for all existing resource concerns and the following specific criteria:

(A) The minimum requirement for water quantity—irrigation water management on cropland or pastureland is considered achieved when the current level of treatment and management for the system results in a water use index value of at least 50;

(B) The minimum requirement for wildlife is considered achieved when the current level of treatment and management for the system results in an index value of at least 0.5 of the habitat potential using either a general or species specific habitat assessment guide, as determined by the State Conservationist;

(C) The minimum requirement for riparian corridors is considered achieved when the streams and natural drainages within the agricultural operation include natural vegetation, or a riparian forest or herbaceous buffer that extends at least 2.5 times the channel width on either side of the stream or 10 meters in width, whichever is less; and

(D) For grazing lands, the minimum requirement is considered achieved when the applicant can demonstrates that the agricultural operation is implementing a monitoring plan with appropriate records to verify that the grazing management plan is meeting the CSP soil and water quality standards. The required minimum components of a monitoring plan include:

• Grazing use records outlining grazing periods and numbers of animals in each grazing unit.

• Assessments, such as trend studies, similarity indices or rangeland health assessments, as well photographs of resource conditions, and documentation of the condition of stream-banks and other sensitive areas.

• Target and actual utilization levels.

CSP Contract Payments and Limits

CSP contract payments include one or more of the following components subject to the described limits:

• An annual per acre stewardship component for the benchmark conservation treatment. This component is calculated separately for each land use by multiplying the number of acres times the tier factor (0.05 for Tier I, 0.10 for Tier II, and 0.15 for Tier III) times the stewardship payment rate established for the watershed times the tier reduction factor (0.25 for Tier I and 0.50 for Tier II, and 0.75 for Tier III).

• An annual existing practice component for maintaining existing conservation practices. Existing practice payments will be calculated as a flat rate of 25 percent of the stewardship payment.

• A new practice component for additional practices on the watershed specific list. New practice payments for limited resource farmers, beginning farmers and producers who qualify in the NRCS small producer initiative will be made at not more than 65 percent cost-share rate. New practice payments for all other contracts will be made at not more than a 50 percent cost-share rate. All new practice payments are limited to a $10,000 cumulative total for the contract.

• An annual enhancement component for exceptional conservation effort and additional conservation practices or activities that provide increased resource benefits beyond the required conservation standard noted above. This payment will be calculated at a variable payment rate for enhancement activities that are part of the benchmark inventory. The annual enhancement payment for the first contract year for the enhancements documented in the benchmark inventory will be calculated at a rate initiating at 120 percent for the 2006 contract year and then at a declining rate for the remainder of the contract of 100 percent for 2007, 80 percent for 2008, 60 percent for 2009, 30 percent for 2010, 10 percent for 2011, and 0 percent for 2012. This is intended to provide contract capacity to add additional enhancements in the out-years and to encourage participants to make continuous improvements to their operation. In order to maintain the same level of payment over the life of the contract, the participant may add additional enhancement activities of their choice in later years. The additional enhancements will be paid at a flat rate of 100 percent. The total of all enhancement payments in any one year will not exceed $13,750 for Tier I, $21,875 for Tier II, and $28,125 for Tier III annually. The NRCS Chief may allow for special enhancements for producer-based studies, watershed scale projects and evaluation and assessment activities on a case-by-case basis.

• An advance enhancement payment is available in the FY 2006 sign-up. The advance enhancement payment is available to contracts with an initial enhancement payment as determined in the benchmark inventory and interview. The advance enhancement payment would shift a portion of that annual enhancement payment amount into the first-year payment and deduct it from the following years' payments.

Tier I contracts are for a five-year duration. Tier II and Tier III contracts are for a five-to 10-year duration at the option of the participant. Participants who move from Tier I to Tier II or III may increase their contract length to up to ten years from the original contract date. Future contract improvements such as advancing tiers, adding land, and adding enhancements may be made to funded contracts during any announced contract modification period based on annual available funding and other constraints determined to be necessary to manage the CSP program.

Total annual maximum contract payment limits are $20,000 for Tier I, $35,000 for Tier II, and $45,000 for Tier III, including any advance enhancement payment.

The payment components are tailored for the selected watersheds. For more details, call or visit the local USDA Service Center, or view on the Web site at http://www.nrcs.usda.gov/programs/csp/2006_CSP_WS/index.html.

Enhancement Components Available in This Sign-Up

The following are the enhancement components available this sign-up:

(1) Additional conservation treatment above the quality criteria for soil quality, nutrient management, pest management, irrigation water management, grazing, air and energy management; and

(2) Conservation measures that address locally identified conservation needs shown on the watershed specific enhancement lists.

The payment components are tailored for the selected watersheds. For more details, call or visit the local USDA Service Center, or view on the Web site at http://www.nrcs.usda.gov/programs/csp/2006_CSP_WS/index.html.

CSP Enrollment Categories and Subcategories

Technical adjustments to the enrollment categories were made based on field testing of the criteria published in a previous notice. This notice provides updated enrollment category criteria.

An application will be placed in an enrollment category as follows:

• A single land use application will be placed in the highest category level that all conservation management units being offered meet.

• A multiple land use application will be placed in the category of the land use with the largest number of acres. Category placement for a land use will follow the direction for single land use application category placement (see above).

The CSP will fund the enrollment categories in alphabetical order (Attachment #1). If an enrollment category cannot be completely funded, then subcategories will be funded in the following order:

(1) Applicant is a limited resource producer, according to criteria specified in the USDA Limited Resource Farmers/Ranchers guidelines or a Tribal member producing on Tribal or historically tribal lands;

(2) Applicant is a participant in an on-going monitoring program that is sponsored by an organization or unit of government that analyzes the data and has authority to take action to achieve improvements;

(3) Agricultural operation in a water conservation area or aquifer zone designated by a unit of government;

(4) Agricultural operation in a drought area designated by a unit of government in the past three years before the sign-up dates;

(5) Agricultural operation in a water quality area with a priority on pesticides designated by a unit of government;

(6) Agricultural operation in a water quality area with a priority on nutrients designated by a unit of government;

(7) Agricultural operation in a water quality area with a priority on sediment designated by a unit of government;

(8) Agricultural operation in a non-attainment area for air quality or other local or regionally designated air quality zones designated by a unit of government;

(9) Agricultural operation in an area selected for the conservation of imperiled plants and animals, including threatened and endangered species, as designated by a unit of government; or

(10) Other applications.

Designated means “officially assigned a priority by a Federal, State, or local unit of government” prior to this notice. If a subcategory cannot be fully funded, applicants will be offered the FY 2006 CSP contract payment on a prorated basis.

Signed in Washington, DC, on February 1, 2006.
Dana D. York,
Deputy Vice President, Commodity Credit Corporation, Associate Chief, Natural Resources Conservation Service.

BILLING CODE 3410-16-P

[FR Doc. 06-1108 Filed 2-6-06; 8:45 am]

BILLING CODE 3410-16-C